DEPARTMENT OF TRANSPORTATION

Federal Aviation Administration

14 CFR Part 39

[Docket No. FAA-2021-0382; Project Identifier MCAI-2021-00382-T; Amendment 39-21797; AD 2021-22-24]

RIN 2120-AA64

Airworthiness Directives; MHI RJ Aviation ULC (Type Certificate Previously Held by Bombardier, Inc.) Airplanes

AGENCY: Federal Aviation Administration (FAA), Department of Transportation (DOT).

ACTION: Final rule.

SUMMARY: The FAA is adopting a new airworthiness directive (AD) for certain MHI RJ Aviation ULC Model CL-600-2C10 (Regional Jet Series 700, 701 & 702), CL-600-2C11 (Regional Jet Series 550), CL-600-2D15 (Regional Jet Series 705), CL-600-2D24 (Regional Jet Series 900), and CL-600-2E25 (Regional Jet Series 1000) airplanes. This AD was prompted by a determination that new or more restrictive airworthiness limitations for structural inspections and safe life components are necessary. This AD requires revising the existing maintenance or inspection program, as applicable, to incorporate new or more restrictive airworthiness limitations. The FAA is issuing this AD to address the unsafe condition on these products.

DATES: This AD is effective December 29, 2021.

The Director of the Federal Register approved the incorporation by reference of a certain publication listed in this AD as of December 29, 2021.

ADDRESSES: For service information identified in this final rule, contact MHI RJ Aviation ULC, 12655 Henri-Fabre Blvd., Mirabel, Québec J7N 1E1 Canada; Widebody Customer Response Center North America toll-free telephone +1-844-272-2720 or direct-dial telephone +1-514-855-8500; fax +1-514-855-8501; email thd.crj@mhirj.com; internet https://mhirj.com. You may view this service information at the FAA, Airworthiness Products Section, Operational Safety Branch, 2200 South 216th St., Des Moines, WA. For information on the availability of this material at the FAA, call 206-231-3195. It is also available on the internet at https://www.regulations.gov by searching for and locating Docket No. FAA-2021-0382.

Examining the AD Docket

You may examine the AD docket on the internet at https://www.regulations.gov by searching for and locating Docket No. FAA-2021-0382; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Antariksh Shetty, Aerospace Engineer, Airframe and Propulsion Section, FAA, New York ACO Branch, 1600 Stewart Avenue, Suite 410, Westbury, NY 11590; telephone 516-228-7300; fax 516-794-5531; email 9-avs-nyaco-cos@faa.gov.

SUPPLEMENTARY INFORMATION:

Background

Transport Canada Civil Aviation (TCCA), which is the aviation authority for Canada, has issued TCCA AD CF-2020-53, dated December 7, 2020 (TCCA AD CF-2020-53) (also referred to after this as the Mandatory Continuing Airworthiness Information, or the MCAI), to correct an unsafe condition for certain MHI RJ Aviation ULC Model CL-600-2C10 (Regional Jet Series 700, 701 & 702), CL-600-2C11 (Regional Jet Series 550), CL-600-2D15 (Regional Jet Series 705), CL-600-2D24 (Regional Jet Series 900), and CL-600-2E25 (Regional Jet Series 1000) airplanes. You may examine the MCAI in the AD docket on the internet at https://www.regulations.gov by searching for and locating Docket No. FAA-2021-0382.

The FAA issued a notice of proposed rulemaking (NPRM) to amend 14 CFR part 39 by adding an AD that would apply to certain MHI RJ Aviation ULC Model CL-600-2C10 (Regional Jet Series 700, 701 & 702), CL-600-2C11 (Regional Jet Series 550), CL-600-2D15 (Regional Jet Series 705), CL-600-2D24 (Regional Jet Series 900), and CL-600-2E25 (Regional Jet Series 1000) airplanes. The NPRM published in the Federal Register on May 27, 2021 (86 FR 28501). The NPRM was prompted by a determination that new airworthiness limitations for structural inspections and safe life components are necessary. The NPRM proposed to require revising the existing maintenance or inspection program, as applicable, to incorporate new airworthiness limitations. The FAA is issuing this AD to address reduced structural integrity and reduced controllability of the airplane. See the MCAI for additional background information.

Comments

The FAA gave the public the opportunity to participate in developing this final rule. The following presents the comments received on the NPRM and the FAA's response to each comment.

Request To Withdraw the NPRM

Air Wisconsin Airlines (Air Wisconsin) requested that the FAA withdraw the NPRM. Air Wisconsin stated that the FAA should require the normal approval routing for revisions to the maintenance requirements manual (MRM) and review the tasks for genuine safety of flights concerns. Air Wisconsin opined that MHI RJ Aviation was trying to force FAA approval of any revision to their maintenance review board (MRB), which then intrudes on an operator's ability to reasonably manage their approved maintenance program. Air Wisconsin concluded that, if successful, the FAA will not need to be asked again to review any revision to any of the documents MHI RJ Aviation wants to push through but will only go to Transport Canada to issue an AD.

The FAA disagrees with the request to withdraw the NPRM. The FAA approved the MRM at Revision 23 and Revision 24 via the Implementation Procedures for Airworthiness (IPA) agreement in place between the U.S. and Canada. The IPA agreement can be found on FAA's website if Air Wisconsin would like to review it further.

In addition, this AD is necessary to address the identified unsafe condition. The FAA issues ADs to require actions to address unsafe conditions that are not otherwise being addressed (or are not addressed adequately) by normal maintenance procedures. The FAA may address such unsafe conditions by requiring revisions to existing maintenance or inspection programs, as applicable, as a condition under which airplanes may continue to be operated. Since the specific revision of the airworthiness limitations issued at the time an airplane is produced must be followed for that airplane, as specified in 14 CFR 21.31(c). Later revisions of the airworthiness limitation document are not required to be incorporated into the maintenance or inspection program for that airplane unless an AD mandates those revisions. Therefore, the FAA has determined that it is necessary to issue this final rule.

Request To Clarify “New” Airworthiness Limitations

Air Wisconsin stated that paragraph (e) of the proposed AD specifies that these are “new” airworthiness limitations for structural inspections and safe life components; however many, if not all of these already exist in the FAA-approved MRM at Revision 21. Air Wisconsin also noted that paragraph (f) of the proposed AD states to comply with this AD “within the compliance times specified, unless already done” and noted that not all the tasks in MRM Revision 23 are newly introduced.

The FAA agrees to clarify that for any tasks already in an operator's maintenance or inspection program, there is no action required by this AD as the operator has already incorporated those tasks into its maintenance or inspection program. Only new or more restrictive airworthiness limitations must be incorporated. The FAA has revised the Summary, Related Service Information under 1 CFR part 51, and paragraph (e) of this AD to better describe the airworthiness limitations as “new or more restrictive” airworthiness limitations.

Request To Clarify How “Unapproved” Actions Could Already Be Done

Air Wisconsin asked how “unapproved” actions could already be done. Air Wisconsin stated “Revision 23 or 24 [of the MRM] have not been FAA approved” and are referred to in the service information specified in paragraph (g)(1) of the proposed AD. Air Wisconsin also stated that paragraph (g)(2) of the proposed AD refers to service information that requires the incorporation of “FAA unapproved version of the MRM revision 23 or subsequent” and said it seems as though this is a flagrant usurpation to force FAA approval of a document previously rejected by the FAA.

The FAA notes that both MRM Revision 23 and 24 are FAA approved via the IPA agreement in place with TCCA. In addition, the FAA has confirmed that the MRM at Revision 23 and 24 were never rejected by the FAA. The FAA approval process is not affected by this AD.

The background of the NPRM refers to the MCAI that provides more clarity that there may be some tasks revised, added, or deleted. As the Revision 23 and 24 of the MRM are published and FAA approved, prior to mandating the MRM as identified in this AD, operators might have already complied with the actions in the documents. Therefore, operators could have already complied with the actions prior to the effective date of this AD.

For clarity, the FAA is mandating the tasks specified in the MRM at Revision 23 at least at this time. However, as noted in the service information, operators may incorporate the specified items in revision 23 or subsequent revisions of the MRM. Operators cannot incorporate specified items in any revision before revision 23.

Request To Clarify if Alternative Methods of Compliance (AMOCs) Are Needed for Operators With an Approved Reliability Program

Air Wisconsin requested that the FAA clarify if AMOCs are needed for operators that have an approved reliability program. Air Wisconsin stated that paragraph (h) of the proposed AD states that “after the existing maintenance or inspection program has been revised as required by paragraph (g), no alternative actions (e.g., inspections) or intervals may be used unless the actions and intervals are approved as an AMOC.”

The FAA acknowledges the commenter's request and has revised paragraph (h) of this AD for clarification. An AMOC is not needed when operators incorporate a subsequent revision of the MRM completely. The FAA has revised paragraph (h) of this AD to remove the reference to the AMOC paragraph to state “After the existing maintenance or inspection program has been revised as required by paragraph (g) of this AD, no alternative actions (e.g., inspections) or intervals may be used unless they are approved as specified in the provisions of paragraphs 2.B.(2)(a) and 2.B.(3)(a) of the Accomplishment Instructions of MHI RJ Service Bulletin 670BA-05-001, dated August 27, 2020.”

Request To Clarify if AMOCs Are Needed for Changes in the Intervals

Air Wisconsin requested that the FAA clarify if AMOCs are needed for changes in the intervals that occur in subsequent revisions. Air Wisconsin noted that intervals may be different due to when they were incorporated. Air Wisconsin asked, if MHI RJ Aviation changes the intervals in subsequent revisions, would MHI RJ Aviation be required to request a global AMOC to accommodate the subsequent interval change.

The FAA notes that operators are not required to incorporate later revisions of the MRM unless the FAA mandates those revisions in a new AD. However, for operators that do incorporate any later revisions of the MRM after Revision 23, an AMOC is not required. The FAA further notes that whichever subsequent revision an operator incorporates, it must do so completely. An AMOC is only needed if an operator wants to incorporate a different interval than the interval specified in the MRM that the operator has incorporated for compliance with this AD.

Request To Clarify Compliance With the Tasks

Air Wisconsin requested that FAA clarify how the FAA, or anyone else, would determine if an operator is in compliance with the tasks. Air Wisconsin stated the MHI RJ Service Bulletin 670BA-05-001, dated August 27, 2020, does not specify intervals for the tasks. Further, Air Wisconsin requested that the FAA explain how operators would show compliance with the proposed AD in five years.

The FAA notes that as required by paragraph (g)(1) of this AD everything within paragraph 2.B.(2)(a) of the Accomplishment Instructions of MHI RJ Service Bulletin 670BA-05-001, dated August 27, 2020, must be followed completely. Specifically that paragraph states “Make sure that your approved maintenance program includes all the applicable items listed in the revision 23 or subsequent of the MRM (Manual CSP B-53) Part 2 Airworthiness Limitation Items (ALIs), Section 2 Structural Inspections and obey the instructions . . . .” The MRM contains the intervals (repeat cut-in and repeat compliance times as well as the threshold), in addition to the other category items specified in the service bulletin. The FAA notes that requiring restrictive airworthiness limitation tasks must be mandated through an AD in order to ensure U.S. operators comply with the task restrictions and timeframe. This AD requires incorporation of these tasks and compliance with these tasks is required by 14 CFR 91.403(c).

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

MHI RJ Aviation ULC has issued MHI RJ Service Bulletin 670BA-05-001, dated August 27, 2020. This service information describes new or more restrictive airworthiness limitations for structural inspections and safe life components.

This service information is reasonably available because the interested parties have access to it through their normal course of business or by the means identified in the ADDRESSES section.

Costs of Compliance

The FAA estimates that this AD affects 554 airplanes of U.S. registry. The FAA estimates the following costs to comply with this AD:

The FAA has determined that revising the maintenance or inspection program takes an average of 90 work-hours per operator, although the FAA recognizes that this number may vary from operator to operator. Since operators incorporate maintenance or inspection program changes for their affected fleet(s), the FAA has determined that a per-operator estimate is more accurate than a per-airplane estimate. Therefore, the FAA estimates the total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-22-24 MHI RJ Aviation ULC (Type Certificate Previously Held by Bombardier, Inc.): Amendment 39-21797; Docket No. FAA-2021-0382; Project Identifier MCAI-2021-00382-T.

(a) Effective Date

This airworthiness directive (AD) is effective December 29, 2021.

(b) Affected ADs

None.

(c) Applicability

This AD applies to MHI RJ Aviation ULC airplanes identified in paragraphs (c)(1) through (3) of this AD, certificated in any category.

(1) Model CL-600-2C10 (Regional Jet Series 700, 701 & 702) and CL-600-2C11 (Regional Jet Series 550) airplanes, serial numbers 10002 and subsequent.

(2) Model CL-600-2D15 (Regional Jet Series 705) and CL-600-2D24 (Regional Jet Series 900) airplanes, serial numbers 15001 and subsequent.

(3) Model CL-600-2E25 (Regional Jet Series 1000) airplanes, serial numbers 19001 and subsequent.

(d) Subject

Air Transport Association (ATA) of America Code 05, Periodic Inspections.

(e) Unsafe Condition

This AD was prompted by a determination that new or more restrictive airworthiness limitations for structural inspections and safe life components are necessary. The FAA is issuing this AD to address reduced structural integrity and reduced controllability of the airplane.

(f) Compliance

Comply with this AD within the compliance times specified, unless already done.

(g) Maintenance or Inspection Program Revision

Within 180 days after the effective date of this AD, revise the existing maintenance or inspection program, as applicable, to incorporate the airworthiness limitations for structural inspections and safe life components specified in paragraphs (g)(1) and (2) of this AD.

(1) The task number, model effectivity, threshold, repeat cut-in, repeat, and task type for the Section 2 structural inspections specified in paragraph 2.B.(2)(a) of the Accomplishment Instructions of MHI RJ Service Bulletin 670BA-05-001, dated August 27, 2020.

(2) The task number, part number, model effectivity, and discard time for the Section 3 safe life components specified in paragraph 2.B.(3)(a) of the Accomplishment Instructions of MHI RJ Service Bulletin 670BA-05-001, dated August 27, 2020.

(h) No Alternative Actions and Intervals

After the existing maintenance or inspection program has been revised as required by paragraph (g) of this AD, no alternative actions (e.g., inspections) or intervals may be used unless they are approved as specified in the provisions of paragraphs 2.B.(2)(a) and 2.B.(3)(a) of the Accomplishment Instructions of MHI RJ Service Bulletin 670BA-05-001, dated August 27, 2020.

(i) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or responsible Flight Standards Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or Transport Canada Civil Aviation (TCCA); or MHI RJ Aviation ULC's TCCA Design Approval Organization (DAO). If approved by the DAO, the approval must include the DAO-authorized signature.

(j) Related Information

(1) Refer to Mandatory Continuing Airworthiness Information (MCAI) TCCA AD CF-2020-53, dated December 7, 2020, for related information. This MCAI may be found in the AD docket on the internet at https://www.regulations.gov by searching for and locating Docket No. FAA-2021-0382.

(2) For more information about this AD, contact Antariksh Shetty, Aerospace Engineer, Airframe and Propulsion Section, FAA, New York ACO Branch, 1600 Stewart Avenue, Suite 410, Westbury, NY 11590; telephone 516-228-7300; fax 516-794-5531; email 9-avs-nyaco-cos@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) MHI RJ Service Bulletin 670BA-05-001, dated August 27, 2020.

(ii) Reserved.

(3) For service information identified in this AD, contact MHI RJ Aviation ULC, 12655 Henri-Fabre Blvd., Mirabel, Québec J7N 1E1 Canada; Widebody Customer Response Center North America toll-free telephone +1-844-272-2720 or direct-dial telephone +1-514-855-8500; fax +1-514-855-8501; email thd.crj@mhirj.com; internet https://mhirj.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: https://www.archives.gov/federal-register/cfr/ibr-locations.html.

Issued on October 22, 2021.
Lance T. Gant,
Director, Compliance & Airworthiness Division, Aircraft Certification Service.

[FR Doc. 2021-25535 Filed 11-23-21; 8:45 am]

BILLING CODE 4910-13-P